Proclamation 9744 of May 4, 2018

Public Service Recognition Week, 2018

By the President of the United States of America

A Proclamation

During Public Service Recognition Week, we acknowledge our Nation's civil servants for their hard work and willingness to serve their fellow citizens. The contributions of these dedicated men and women strengthen our country and make a profound difference in the lives of all Americans.

Members of our Federal, State, and local workforces bring incredible skills, tireless dedication, and selfless service to a broad range of career fields. Our Nation's civil servants include teachers, mail carriers, first responders, transit workers, and law enforcement officers. Our Federal employees underpin nearly all the operations of our Government.

It is critical for Federal employees to provide excellent service and wise stewardship of taxpayer resources. In order to facilitate these goals, in March, I issued the President's Management Agenda, a long-term vision to modernize our Federal Government. Implementation of this comprehensive framework will enable employees to achieve the missions of their agencies in more efficient and secure manners. This Agenda leverages information technology, data, and our Federal workforce to accomplish transformational cross-agency goals. Through the Agenda, my Administration has established a transparent accountability structure, which includes quarterly reviews and public updates, to identify both successes and areas that need further attention.

We are duty-bound to the American people to operate at the highest levels of capability and competency. I am confident that, in keeping with the Agenda, our devoted civil servants will execute their missions so that our Government becomes more efficient and more productive for the benefit of all Americans.

Every day, our Nation's civil servants help make America better, safer, and stronger. This week, we honor their efforts and extend our gratitude for their exceptionalism and steadfast commitment to serving the American people.

NOW, THEREFORE, I, DONALD J. TRUMP, President of the United States of America, by virtue of the authority vested in me by the Constitution and the laws of the United States, do hereby proclaim May 6 through May 12, 2018, as Public Service Recognition Week. I call upon Americans and all Federal, State, tribal, and local government agencies to recognize the dedication of our Nation's public servants and to observe this week through appropriate programs and activities.

IN WITNESS WHEREOF, I have hereunto set my hand this fourth day of May, in the year of our Lord two thousand eighteen, and of the Independence of the United States of America the two hundred and forty-second.

[FR Doc. 2018-10279

Filed 5-10-18; 11:15 am]

Billing code 3295-F8-P